DEPARTMENT OF HEALTH AND HUMAN SERVICES

Administration for Children and Families

Office of Family Assistance; Single-Source Program Expansion Supplement

AGENCY: Office of Family Assistance, Administration for Children and Families, HHS.

CFDA#: 93.575.

Legislative Authority: Child Care and Development Block Grant Act of 1990, as amended.

Amount of Award: $101,774.00 for one year.

Project Period: 09/30/2006-09/29/2007.

Justification for the Exception to Competition: Oregon State University (the grantee) is currently conducting data analyses with funding from a research grant awarded in FY 2004 to validate methodologies used to conduct State market rate surveys on the price for child care and early education programs at the State and local levels. The supplemental funds will allow the grantee to include additional datasets in the ongoing analyses representing sampling methodologies that include a more diverse care provider sample, a broader geographical coverage, and several additional data collection methods, and will in turn make the findings from the project more generalizable to States, Tribes and Territories implementing the Child Care and Development Fund program.

Contact for Further Information: Ivelisse Martinez-Beck, Research Coordinator, Child Care Bureau, Portals Building, Suite 800, 1250 Maryland Avenue, SW., Washington, DC 20024.

Telephone: 202-690-7885.

Dated: September 1, 2006.
Sidonie Squier,
Director, Office of Family Assistance.

[FR Doc. E6-15559 Filed 9-19-06; 8:45 am]

BILLING CODE 4184-01-P